DEPARTMENT OF HEALTH AND HUMAN SERVICES

Meeting of the Pain Management Best Practices Inter-Agency Task Force

AGENCY: Office of the Assistant Secretary for Health, Office of the Secretary, Department of Health and Human Services.

ACTION: Notice.

SUMMARY: As stipulated by the Federal Advisory Committee Act, the Department of Health and Human Services (HHS) is hereby giving notice that a meeting via WebEx is scheduled to be held for the Pain Management Best Practices Inter-Agency Task Force (Task Force) with the HHS Centers for Medicaid & Medicare Services. This meeting will be open to the public via phone.

DATES: The Task Force meeting will be held on Wednesday, June 12, 2019 from 5 p.m. to 6:30 p.m. Eastern Time. The agenda will be posted on the Task Force website at https://www.hhs.gov/ash/advisory-committees/pain/index.html.

ADDRESSES: The virtual meeting will be accessible by phone. Information on how to join the meeting will be available on the Task Force website: https://www.hhs.gov/ash/advisorycommittees/pain/index.html.

FOR FURTHER INFORMATION CONTACT: Alicia Richmond Scott, Designated Federal Officer, Pain Management Best Practices Inter-Agency Task Force, U.S. Department of Health and Human Services, Office of the Assistant Secretary for Health, 200 Independence Avenue SW, Room 736E, Washington, DC 20201. Phone: 240-453-2816. Email: paintaskforce@hhs.gov.

SUPPLEMENTARY INFORMATION: Section 6032 of the Substance Use-Disorder Prevention that Promotes Opioid Recovery and Treatment (SUPPORT) for Patients and Communities Act, Public Law 115-271 requires that the Secretary of Health and Human Services, by January 1, 2020, collaborate with the Pain Management Best Practices Inter-Agency Task Force (Task Force), to develop an action plan on recommendations for changes under Medicare and Medicaid to prevent opioids addictions and enhance access to Medication-Assisted Treatment. The Task Force, established under Section 101 of the Comprehensive Addiction and Recovery Act of 2016 (Pub. L. 114-198), is governed by the provisions of the Federal Advisory Committee Act (FACA), Public Law 92-463, as amended (5 U.S.C. App), which sets forth standards for the formation and use of advisory committees.

The purpose of this meeting is for the Task Force to collaborate with HHS, Centers for Medicaid & Medicare Services in a virtual meeting, on June 12, 2019 to discuss payment and coverage policies for chronic and acute pain, service delivery models, access to therapies and medical devices, and other issues outlined in section 6032 of the SUPPORT Act. Information about the final meeting agenda will be posted prior to the meeting on the Task Force website: https://www.hhs.gov/ash/advisorycommittees/pain/index.html.

Members of the public are invited to listen by phone. Individuals who need special assistance should send an email to the Pain Task Force email address (paintaskforce@hhs.gov) and indicate the special accommodation. More information on joining the meeting can be found at https://www.hhs.gov/ash/advisory-committees/pain/index.html.

Written comments from the public will be accepted through the Federal eRulemaking Portal at http://www.regulations.gov, docket number HHS-OS-2019-0008.

Dated: May 28, 2019.
Vanila M. Singh,
Chief Medical Officer, Chair, Pain Management Task Force, Office of the Assistant Secretary for Health.

[FR Doc. 2019-11473 Filed 5-31-19; 8:45 am]

BILLING CODE 4150-28-P